DEPARTMENT OF COMMERCE

International Trade Administration

[A-570-901]

Certain Lined Paper Products From People's Republic of China: Final Results of Antidumping Duty Changed Circumstances Review and Revocation, in Part

AGENCY: Import Administration, International Trade Administration, Department of Commerce.

SUMMARY: On August 17, 2011, the Department of Commerce (“Department”) published its notice of initiation and preliminary results of changed circumstances review, and intent to revoke, in part, the antidumping duty order on certain lined paper products (“CLPP”) from the People's Republic of China (“PRC”).¹ We invited parties to comment and received no comments. Therefore, we are now revoking the order, in part, with respect to FiveStar® Advance™ notebooks and notebook organizers without polyvinyl chloride (“PVC”) coatings.

¹ See Certain Lined Paper Products from People's Republic of China: Initiation and Preliminary Results of Changed Circumstances Review, and Intent to Revoke Order in Part, 76 FR 50998 (August 17, 2011) (“Intent to Revoke”).

DATES: Effective Date: September 30, 2011.

FOR FURTHER INFORMATION CONTACT: Cindy Robinson, Import Administration, International Trade Administration, U.S. Department of Commerce, 14th Street and Constitution Avenue, NW., Washington DC 20230; telephone (202) 482-3797.

SUPPLEMENTARY INFORMATION:

Background

On September 28, 2006, the Department published in the Federal Register the antidumping duty order on CLPP from the PRC.² On June 30, 2011, the Department received a request from the Association of American School Paper Suppliers (“AASPS”) ³ to conduct a changed circumstances review for the purpose of revoking, in part, the antidumping duty order with respect to FiveStar® Advance™ notebooks and notebook organizers without PVC coatings. AASPS claimed that producers accounting for substantially all of the production of the domestic like product to which the order was issued no longer wish to maintain the order. We did not receive comments from any other party.

² See Notice of Amended Final Determination of Sales at Less Than Fair Value: Certain Lined Paper Products from the People's Republic of China; Notice of Antidumping Duty Orders: Certain Lined Paper Products from India, Indonesia and the People's Republic of China; and Notice of Countervailing Duty Orders: Certain Lined Paper Products from India and Indonesia, 71 FR 56949 (September 28, 2006) (“CLPP Order”).

³ AASPS is the domestic industry coalition that filed the underlying antidumping (“AD”) petition, and consists of three members—MeadWestvaco Corporation (“MWV”), Norcom, Inc., and Top Flight Inc.

On August 17, 2011, we published in the Federal Register a combined notice of initiation and preliminary results of changed circumstances review, and intent to revoke, in part, the antidumping duty on CLPP from the PRC.⁴ We invited parties to comment and received no comment.

⁴ See Intent to Revoke.

Scope of the Order

The scope of this order includes certain lined paper products, typically school supplies (for purposes of this scope definition, the actual use of or labeling these products as school supplies or non-school supplies is not a defining characteristic) composed of or including paper that incorporates straight horizontal and/or vertical lines on ten or more paper sheets (there shall be no minimum page requirement for looseleaf filler paper) including but not limited to such products as single- and multi-subject notebooks, composition books, wireless notebooks, looseleaf or glued filler paper, graph paper, and laboratory notebooks, and with the smaller dimension of the paper measuring 6 inches to 15 inches (inclusive) and the larger dimension of the paper measuring 8¾ inches to 15 inches (inclusive). Page dimensions are measured size (not advertised, stated, or “tear-out” size), and are measured as they appear in the product (i.e., stitched and folded pages in a notebook are measured by the size of the page as it appears in the notebook page, not the size of the unfolded paper). However, for measurement purposes, pages with tapered or rounded edges shall be measured at their longest and widest points. Subject lined paper products may be loose, packaged or bound using any binding method (other than case bound through the inclusion of binders board, a spine strip, and cover wrap). Subject merchandise may or may not contain any combination of a front cover, a rear cover, and/or backing of any composition, regardless of the inclusion of images or graphics on the cover, backing, or paper. Subject merchandise is within the scope of this order whether or not the lined paper and/or cover are hole punched, drilled, perforated, and/or reinforced. Subject merchandise may contain accessory or informational items including but not limited to pockets, tabs, dividers, closure devices, index cards, stencils, protractors, writing implements, reference materials such as mathematical tables, or printed items such as sticker sheets or miniature calendars, if such items are physically incorporated, included with, or attached to the product, cover and/or backing thereto. Specifically excluded from the scope of this order are:

• Unlined copy machine paper;

• Writing pads with a backing (including but not limited to products commonly known as “tablets,” “note pads,” “legal pads,” and “quadrille pads”), provided that they do not have a front cover (whether permanent or removable). This exclusion does not apply to such writing pads if they consist of hole-punched or drilled filler paper;

• Three-ring or multiple-ring binders, or notebook organizers incorporating such a ring binder provided that they do not include subject paper;

• Index cards;

• Printed books and other books that are case bound through the inclusion of binders board, a spine strip, and cover wrap;

• Newspapers;

• Pictures and photographs;

• Desk and wall calendars and organizers (including but not limited to such products generally known as “office planners,” “time books,” and “appointment books”);

• Telephone logs;

• Address books;

• Columnar pads & tablets, with or without covers, primarily suited for the recording of written numerical business data;

• Lined business or office forms, including but not limited to: Pre-printed business forms, lined invoice pads and paper, mailing and address labels, manifests, and shipping log books;

• Lined continuous computer paper;

• Boxed or packaged writing stationary (including but not limited to products commonly known as “fine business paper,” “parchment paper”, and “letterhead”), whether or not containing a lined header or decorative lines;

• Stenographic pads (“steno pads”), Gregg ruled (“Gregg ruling” consists of a single- or double-margin vertical ruling line down the center of the page. For a six-inch by nine-inch stenographic pad, the ruling would be located approximately three inches from the left of the book), measuring 6 inches by 9 inches;

Also excluded from the scope of this order are the following trademarked products:

• Fly™ lined paper products: A notebook, notebook organizer, loose or glued note paper, with papers that are printed with infrared reflective inks and readable only by a Fly™ pen-top computer. The product must bear the valid trademark Fly™ (products found to be bearing an invalidly licensed or used trademark are not excluded from the scope).

• Zwipes™: A notebook or notebook organizer made with a blended polyolefin writing surface as the cover and pocket surfaces of the notebook, suitable for writing using a specially-developed permanent marker and erase system (known as a Zwipes™ pen). This system allows the marker portion to mark the writing surface with a permanent ink. The eraser portion of the marker dispenses a solvent capable of solubilizing the permanent ink allowing the ink to be removed. The product must bear the valid trademark Zwipes™ (products found to be bearing an invalidly licensed or used trademark are not excluded from the scope).

• FiveStar®Advance™: A notebook or notebook organizer bound by a continuous spiral, or helical, wire and with plastic front and rear covers made of a blended polyolefin plastic material joined by 300 denier polyester, coated on the backside with PVC (poly vinyl chloride) coating, and extending the entire length of the spiral or helical wire. The polyolefin plastic covers are of specific thickness; front cover is 0.019 inches (within normal manufacturing tolerances) and rear cover is 0.028 inches (within normal manufacturing tolerances). Integral with the stitching that attaches the polyester spine covering, is captured both ends of a 1″ wide elastic fabric band. This band is located 2⅜ from the top of the front plastic cover and provides pen or pencil storage. Both ends of the spiral wire are cut and then bent backwards to overlap with the previous coil but specifically outside the coil diameter but inside the polyester covering. During construction, the polyester covering is sewn to the front and rear covers face to face (outside to outside) so that when the book is closed, the stitching is concealed from the outside. Both free ends (the ends not sewn to the cover and back) are stitched with a turned edge construction. The flexible polyester material forms a covering over the spiral wire to protect it and provide a comfortable grip on the product. The product must bear the valid trademarks FiveStar®Advance™ (products found to be bearing an invalidly licensed or used trademark are not excluded from the scope).

• FiveStar Flex™: A notebook, a notebook organizer, or binder with plastic polyolefin front and rear covers joined by 300 denier polyester spine cover extending the entire length of the spine and bound by a 3-ring plastic fixture. The polyolefin plastic covers are of a specific thickness; front cover is 0.019 inches (within normal manufacturing tolerances) and rear cover is 0.028 inches (within normal manufacturing tolerances). During construction, the polyester covering is sewn to the front cover face to face (outside to outside) so that when the book is closed, the stitching is concealed from the outside. During construction, the polyester cover is sewn to the back cover with the outside of the polyester spine cover to the inside back cover. Both free ends (the ends not sewn to the cover and back) are stitched with a turned edge construction.

Each ring within the fixture is comprised of a flexible strap portion that snaps into a stationary post which forms a closed binding ring. The ring fixture is riveted with six metal rivets and sewn to the back plastic cover and is specifically positioned on the outside back cover. The product must bear the valid trademark FiveStar Flex™ (products found to be bearing an invalidly licensed or used trademark are not excluded from the scope).

Merchandise subject to this order is typically imported under headings 4810.22.5044, 4811.90.9050, 4820.10.2010, 4820.10.2020, 4820.10.2030, 4820.10.2040, 4820.10.2060, and 4820.10.4000 of the Harmonized Tariff Schedule of the United States (“HTSUS”). The HTSUS headings are provided for convenience and customs purposes; however, the written description of the scope of this order is dispositive.

Final Results of Changed Circumstances Review, and Revocation of the AD Order in Part

At the request of AASPS, and in accordance with sections 751(b)(1) and (d)(1) of the Tariff Act of 1930, as amended (“Act”), and 19 CFR 351.216, the Department determined to initiate a changed circumstances review of the AD order on CLPP from the PRC to determine whether partial revocation of the order is warranted with respect to FiveStar® Advance™ notebooks and notebook organizers without PVC coatings.⁵ In addition, we determined that expedited action was warranted and, consistent with 19 CFR 351.221(c)(3)(ii), we combined the notices of initiation and preliminary results.⁶ Because AASPS, the petitioner in the underlying investigation, made an affirmative statement of no interest and claimed that parties accounting for more than 85 percent of production of the domestic like product support the partial revocation, we accepted their claim and, in accordance with section 751(b) of the Act and 19 CFR 351.222(g)(1)(i), and absent any evidence to the contrary, found that substantially all of the producers of the domestic like product expressed a lack of interest in maintaining the order with respect to FiveStar® Advance™ notebooks and notebook organizers without PVC coatings. Based on the expression of no interest by companies accounting for substantially all of the production of the domestic like product to which the CLPP Order pertains, we preliminarily determined that the domestic producers of the like product have no interest in the continued application of the AD order on CLPP from the PRC to the merchandise that is subject to this request and that partial revocation of the order is appropriate. Accordingly, we notified the public of our intent to revoke, in part, the AD order with respect to FiveStar® Advance™ notebooks and notebook organizers without PVC coatings.⁷ We did not receive any comments from parties objecting to the partial revocation. Therefore, the Department is partially revoking the AD order on CLPP from the PRC with respect to FiveStar® Advance™ notebooks and notebook organizers without PVC coatings.

⁵ See Intent to Revoke.

⁶ See id.

⁷ See id.

As we stated in our Intent to Revoke, we will instruct U.S. Customs and Border Protection to end the suspension of liquidation for the merchandise covered by the revocation on the effective date of this notice of revocation and to release any cash deposit or bond. See 19 CFR 351.222(g)(4).

This notice serves as a reminder to parties subject to administrative protective order (“APO”) of their responsibility concerning the disposition of proprietary information disclosed under APO in accordance with 19 CFR 351.306. Timely written notification of the return/destruction of APO materials or conversion to judicial protective order is hereby requested.

This changed circumstances review, partial revocation of the AD order and notice are in accordance with sections 751(b) and (d), 777(i), and 782(h) of the Act and 19 CFR 351.216, 351.221, and 351.222.

Dated: September 23, 2011.
Ronald K. Lorentzen,
Deputy Assistant Secretary for Import Administration.

[FR Doc. 2011-25315 Filed 9-29-11; 8:45 am]

BILLING CODE 3510-DS-P